DEPARTMENT OF HEALTH AND HUMAN SERVICES

Centers for Medicare & Medicaid Services

[Document Identifiers: CMS-2746, CMS-2728, CMS-R-39, CMS-10170, CMS-10156 and CMS-10485]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by September 10, 2013.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address:

CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326

SUPPLEMENTARY INFORMATION:

Contents

This notice sets out a summary of the use and burden associated with the following information collections. More detailed information can be found in each collection's supporting statement and associated materials (see ADDRESSES).

CMS-2746 End Stage Renal Disease Death Notification

CMS-2728 End Stage Renal Disease Medical Evidence Report Medicare Entitlement and/or Patient Registration

CMS-R-39 Home Health Conditions of Participation (CoP) and Supporting Regulations

CMS-10170 Retiree Drug Subsidy (RDS) Payment Request and Instructions

CMS-10156 Retiree Drug Subsidy (RDS) Application and Instructions

CMS-10485 Evaluation of the Multi-Payer Advanced Primary Care Practice (MAPCP) Demonstration: Provider Survey

Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Revision of a previously approved collection; Title of Information Collection: End Stage Renal Disease Death Notification; Use: The End Stage Renal Disease (ESRD) Death Notification (CMS-2746) is completed by all Medicare-approved ESRD facilities upon the death of an ESRD patient. Its primary purpose is to collect fact of death and cause of death of ESRD patients. Certain other identifying information (e.g., name, Medicare claim number, and date of birth) is required for matching purposes. Federal regulations require that the ESRD Networks examine the mortality rates of every Medicare-approved facility within its area of responsibility. The death form provides the necessary data to assist the ESRD Networks in making decisions that result in improved patient care and in cost-effective distribution of ESRD resources. The data is used by the ESRD Networks to verify facility deaths and to monitor facility performance. Form Number: CMS-2746 (OCN: 0938-0448); Frequency: On occasion; Affected Public: Business or other for-profit, Not-for-profit institutions; Number of Respondents: 5,964; Total Annual Responses: 75,000; Total Annual Hours: 37,500. (For policy questions regarding this collection contact Michelle Tucker at 410-786-0736.)

2. Type of Information Collection Request: Extension of a currently approved collection; Title of Information Collection: End Stage Renal Disease Medical Evidence Report Medicare Entitlement and/or Patient Registration; Use: The End Stage Renal Disease (ESRD) Medical Evidence Report is completed for all ESRD patients either by the first treatment facility or by a Medicare-approved ESRD facility when it is determined by a physician that the patient's condition has reached that stage of renal impairment that a regular course of kidney dialysis or a kidney transplant is necessary to maintain life. The data reported on the CMS-2728 is used by the federal government, ESRD Networks, treatment facilities, researchers and others to monitor and assess the quality and type of care provided to end stage renal disease beneficiaries. The data collection captures the specific medical information required to determine the Medicare medical eligibility of End Stage Renal Disease claimants. Form Number: CMS-2728 (OCN#: 0938-0046); Frequency: Occasionally; Affected Public: Individuals or households; Number of Respondents: 130,000; Total Annual Responses: 130,000; Total Annual Hours: 97,500. (For policy questions regarding this collection contact Michelle Tucker at 410-786-0736.)

3. Type of Information Collection Request: Reinstatement with change of a currently approved collection; Title of Information Collection: Home Health Conditions of Participation (CoP) and Supporting Regulations; Use: The information collection requirements contained in this request are part of the requirements classified as the conditions of participation (CoPs) which are based on criteria prescribed in law and are standards designed to ensure that each facility has properly trained staff to provide the appropriate safe physical environment for patients. These particular standards reflect comparable standards developed by industry organizations such as the Joint Commission on Accreditation of Healthcare Organizations, and the Community Health Accreditation Program. The primary users of this information will be state agency surveyors, the regional home health intermediaries, CMS and home health agencies (HHAs) for the purpose of ensuring compliance with Medicare CoPs as well as ensuring the quality of care provided by HHA patients. Form Numbers: CMS-R-39 (OCN: 0938-0365); Frequency: Occasionally; Affected Public: Business or for-profits, not-for-profit institutions, and State, Local or Tribal governments; Number of Respondents: 13,577; Total Annual Responses: 20,202,576; Total Annual Hours: 6,422,694. (For policy questions regarding this collection contact Danielle Shearer at 410-786-6617.)

4. Type of Information Collection Request: Reinstatement without change of a previously approved collection; Title of Information Collection: Retiree Drug Subsidy (RDS) Payment Request and Instructions; Use: Under section 1860D-22 of the Social Security Act and implementing regulations at 42 CFR part 423 subpart R, plan sponsors (e.g., employers, unions) who offer prescription drug coverage meeting specified criteria to their qualified covered retirees are eligible to receive a 28 percent tax-free subsidy for allowable drug costs. Plan sponsors must submit required prescription drug cost data and other information in order to receive the subsidy. Subpart R stipulates that plan sponsors may elect to submit RDS payment requests on a monthly, quarterly, interim annual, or annual basis; once selected, the payment frequency may not be changed during the plan year. Form Number: CMS-10170 (OCN: 0938-0977); Frequency: Occasionally; Affected Public: Private sector (business or other for-profits and not-for-profit institutions); Number of Respondents: 4,500; Total Annual Responses: 4,500; Total Annual Hours: 679,500. (For policy questions regarding this collection contact John W. Campbell at 410-786-0542.)

5. Type of Information Collection Request: Reinstatement without change of a previously approved collection; Title of Information Collection: Retiree Drug Subsidy (RDS) Applications and Instructions; Use: Under the Medicare Prescription Drug, Improvement, and Modernization Act of 2003 and implementing regulations at 42 CFR part 423, subpart R plan sponsors (e.g., employers, unions) who offer prescription drug coverage to their qualified covered retirees are eligible to receive a 28 percent tax-free subsidy for allowable drug costs. In order to qualify, plan sponsors must submit a complete application with a list of retirees for whom it intends to collect the subsidy. Once CMS reviews and analyzes the information on the application and the retiree list, notification will be sent to the plan sponsor about its eligibility to participate in the RDS program. Form Number: CMS-10156 (OCN: 0938-0957); Frequency: Yearly and monthly; Affected Public: Private sector (business or other for-profits and not-for-profit institutions); Number of Respondents: 4,500; Total Annual Responses: 4,500; Total Annual Hours: 288,000. (For policy questions regarding this collection contact John W. Campbell at 410-786-0542.)

6. Type of Information Collection Request: New Collection (Request for a new OMB control number); Title of Information Collection: Evaluation of the Multi-Payer Advanced Primary Care Practice (MAPCP) Demonstration: Provider Survey; Use: On September 16, 2009, the Department of Health and Human Services announced the establishment of the Multi-payer Advanced Primary Care Practice (MAPCP) Demonstration, under which Medicare joined Medicaid and private insurers as a payer participant in state-sponsored patient-centered medical home (PCMH) initiatives. We selected eight states to participate in this demonstration: Maine, Vermont, Rhode Island, New York, Pennsylvania, North Carolina, Michigan, and Minnesota.

We are proposing to conduct this provider survey to understand how participating practices' structures and functions vary, particularly with respect to their adoption of different components of the PCMH model of care. Researchers evaluating the MAPCP Demonstration plan to combine these survey data with claims data to conduct statistical analyses that identify which particular medical home care processes are associated with the largest gains in health care quality and reductions in health care cost trends. Form Number: CMS-10485 (OCN: 0938-NEW); Frequency: Annually; Affected Public: Individuals and households; Number of Respondents: 5,799; Total Annual Responses: 5,799; Total Annual Hours: 1,450. (For policy questions regarding this collection contact Suzanne Wensky at 410-786-0226.)

Dated: July 9, 2013.
Martique Jones,
Deputy Director, Regulations Development Group, Office of Strategic Operations and Regulatory Affairs.

[FR Doc. 2013-16740 Filed 7-11-13; 8:45 am]

BILLING CODE 4120-01-P